DEPARTMENT OF DEFENSE

Office of the Secretary

[Docket ID DoD-2021-OS-0095]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 29, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, or call 571-392-2089.

SUPPLEMENTARY INFORMATION: Title; Associated Form; and OMB Number: Exceptional Family Member Program (EFMP) Family Needs Assessment; DD Form 3054; OMB Control Number 0704-0580.

Needs and Uses: Section 1781c of Title 10, U.S.C. requires the Office of Community Support for Military Families with Special Needs (OSN) to enhance and improve support for military families with special needs. In this effort, OSN and the four Services developed the DD Form 3054 Exceptional Family Member Program (EFMP) Family Needs Assessment (FNA) as standard documentation to guide assessment of needs, service planning and case transfer processes for the Family Support component of the EFMP. The EFMP FNA assists EFMP Family Support staff in identifying the needs of families and developing plans of action. The EFMP FNA addresses current differences in assessment processes and inconsistent transfer of cases across the Services. With this standardized form, installation-level EFMP Family Support Offices can provide a family support experience that is consistent across the Services and maintains continuity of services when military families with special needs have Permanent Change of Station (PCS) orders to a Same-Service or Sister-Service location. DD form 3054 is used by EFMP Family Support staff in collaboration with families who request assistance in navigating resources and systems of support. The Form documents a family's needs and provides a plan for them to gain access to support and resources in the community which meets those needs. The Family Services Plan Addendum provides a plan of action and a way to track the progress towards goals set by the family with the assistance of the EFMP Family Support staff.

Affected Public: Individuals or households.

Annual Burden Hours: 10,000 hours.

Number of Respondents: 20,000.

Responses per Respondent: 1.

Annual Responses: 20,000.

Average Burden per Response: 30 minutes.

Frequency: On occasion.

Dated: August 24, 2021.
Kayyonne T. Marston,
Alternate OSD Federal Register Liaison Officer, Department of Defense.

[FR Doc. 2021-18559 Filed 8-27-21; 8:45 am]

BILLING CODE 5001-06-P